DEPARTMENT OF ENERGY

Federal Energy Regulatory Commission

[Project No. 803-123]

Pacific Gas and Electric Company; Notice of Intent To Prepare an Environmental Assessment

On May 6, 2025, Pacific Gas and Electric Company filed an application for a temporary variance from the minimum flow requirements for the Desabla-Centerville Project No. 803. The project is located on Butte Creek, West Branch Feather River, and their tributaries in Butte County, California. The project occupies federal lands managed by the U.S. Forest Service and Bureau of Land Management.

The licensee requests a temporary variance of the instantaneous minimum flow requirements in the West Branch Feather River below the Hendricks Head Dam and in Philbrook Creek below Philbrook Reservoir. Specifically, the licensee requests that the instantaneous minimum flow requirements for a normal water year: (1) in the West Branch Feather River, of 15 cubic feet per second (cfs), respectively, be temporarily modified to 7 cfs over 48 hours; and (2) in Philbrook Creek, of 2 cfs, be temporarily modified to between 1 and 2 cfs over 48 hours. The licensee proposes to execute these changes as soon as the Commission grants approval until September 30, 2025. The proposed variance would help preserve cold water storage in Philbrook Reservoir, increase flow to Butte Creek via the Hendricks Canal, and decrease water residence time in the DeSabla Forebay, thus minimize high temperature effects to Central Valley spring-run Chinook salmon, and to preserve water for release later in the summer months towards the end of their holding period when the situation is most critical.

This notice identifies Commission staff's intention to prepare an environmental assessment (EA) under the National Environmental Policy Act (42 U.S.C. 4321 et seq.) for the project.¹ Commission staff plans to issue an EA by August 6, 2025. Revisions to the schedule may be made as appropriate.

¹ The unique identification number for documents relating to this environmental review is EAXX-019-20-000-1750253551.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Ms. Joy Kurtz at (202) 502-6760 or joy.kurtz@ferc.gov.

Dated: July 23, 2025.
Debbie-Anne A. Reese,
Secretary.

[FR Doc. 2025-14172 Filed 7-25-25; 8:45 am]

BILLING CODE 6717-01-P